DEPARTMENT OF HOMELAND SECURITY

[1650-ZA02]

Border and Transportation Security; Notice to Aliens Included in the United States Visitor and Immigrant Status Indicator Technology System (US-VISIT)

AGENCY: Border and Transportation Security Directorate, Department of Homeland Security.

ACTION: Notice.

SUMMARY: This Notice identifies additional ports-of-entry that will begin processing aliens in the United States Visitor and Immigrant Status Indicator Technology System no later than December 31, 2005.

Authority: 8 U.S.C. 1104; 1184; 1185 (pursuant to E.O. 13323), 1365a, and note, 1365b, 1379, 1731-32; 69 FR 53318.

FOR FURTHER INFORMATION CONTACT: Michael Hardin, Senior Policy Advisor, US-VISIT, Border and Transportation Security, Department of Homeland Security, 1616 N. Fort Myer Drive, 18th Floor, Arlington, Virginia 22209, (202) 298-5200.

SUPPLEMENTARY INFORMATION: The Department of Homeland Security (DHS) has established the United States Visitor and Immigrant Status Indicator Technology Program (US-VISIT), an integrated system that contains biometric watch list information; records the arrival and departure of aliens; verifies aliens' identities; and authenticates aliens' travel documents through comparison of biometric identifiers. On August 31, 2004, DHS announced the second phase of US-VISIT by requiring certain aliens to provide fingerprints, photographs or other biometric identifiers upon arrival in the United States at land ports-of-entry (POE) identified by Notice in the Federal Register. 69 FR 53318.

On November 9, 2004, DHS published a Notice that identified the 50 most trafficked land POEs where US-VISIT would be implemented prior to December 31, 2004. The Notice also included the specific implementation timetable for particular ports of entry. 69 FR 64964. The 50 most trafficked ports of entry were added incrementally beginning November 15, 2004, and ending December 27, 2004. At land border POEs, aliens subject to US-VISIT are enrolled at the secondary inspection area.

While the November 9, 2004, Notice identified only the 50 most trafficked land border POEs for US-VISIT implementation, the August 31 interim final rule established the process to implement applying the US-VISIT program at any POE by requiring DHS to publish a subsequent Notice in the Federal Register. This Notice identifies additional POEs that will begin processing aliens in US-VISIT in 2005. These additions will extend the application of US-VISIT arrival procedures to all POEs in which permanent facilities are maintained.

In addition, as stated in the August 31, 2004, interim rule, this Notice identifies only land POEs in which aliens will be enrolled in US-VISIT upon entry into the United States. DHS will announce, through a separate Notice in the Federal Register, the biometric data collection program for processing aliens upon departure from the United States at a limited number of sites.

The comment period for the August 31, 2004, interim final rule closed on December 1, 2004. In responding to that rule, several commenters noted the difficulties at land border POEs when major changes are implemented at peak travel periods like the December holiday period. DHS agrees that changes in procedures during peak travel periods can unnecessary impede legitimate travel, and accordingly, DHS is making every effort to implement the majority of these additional POEs before the 2005 holiday season.

This Notice makes no changes to existing US-VISIT requirements, processes or classifications of aliens subject to US-VISIT. This Notice merely identifies additional ports-of-entry that will begin US-VISIT implementation.

The additional Land Border POEs that will begin biometric data collection as part of US-VISIT processing no later than December 31, 2005 are:

Estimated start date of September 26, 2005:

Falcon Heights POE, Falcon Heights, TX.

Amistad Dam, Route 349 and International Border, Amistad Village, TX.

Fort Hancock, Route 1088 and International Border, Fort Hancock, TX.

Sasabe, Highway 286 and International Border, Sasabe, AZ.

Morley Gate, Nogales POE, Nogales, AZ.

Columbus, Route 11 and International Border, Columbus, NM.

Skagway POE, Klondike Highway and International Border, Skagway, AK.

Alcan POE, Alaska Highway and International Border, Alcan, AK.

Dalton's Cache POE, Haines Highway and International Border, Dalton Cache, AK.

Estimated start date of October 26, 2005:

Chief Mountain POE, Route 17 and International Border, Chief Mountain, MT.

Piegan POE, Highway 89 and International Border, Babb, MT.

Del Bonita POE, Chalk Butte Road and International Border, Del Bonita, MT.

Willow Creek POE, Route 241 and International Border, Turner, MT.

Wild Horse POE, Highway 232 and International Border, Harve, MT.

Turner POE, Highway 24 and International Border, Turner, MT.

Morgan POE, Highway 191 and International Border, Loring, MT.

Opheim POE, Route 24 and International Border, Opheim, MT.

Whitetail POE, Highway 411 N. and International Border, Whitetail, MT.

Raymond POE, Highway 16 and International Border, Raymond, MT.

St. John POE, Highway 30 and International Border, St. John, ND.

Danville POE, Highway 21 and International Border, Danville, WA.

Laurier POE, Highway 395 and International Border, Laurier, WA.

Frontier POE, Highway 25 and International Border, Frontier, WA.

Boundary POE, Boundary Highway and International Border, Boundary, WA.

Metaline Falls POE, Highway 31 and International Border, Metaline Falls, WA.

Hansboro POE, Highway 4 and International Border, Hansboro, ND.

Sarles POE, Highway 20 and International Border, Sarles, ND.

Hannah POE, Highway 13 and International Border, Hannah, ND.

Walhalla POE, Highway 32 and International Border, Walhalla, ND.

Fortuna POE, Highway 85 NW and International Border, Fortuna, ND.

Pembina POE, Interstate 29 and International Border, Pembina, ND.

Noonan POE, Highway 40 and International Border, Noonan, ND.

Portal POE, 301 West Railway Avenue, Portal, ND.

Northgate POE, Highway 8 and International Border, Northgate, ND.

Sherwood POE, Highway 28 and International Border, Sherwood, ND.

Antler POE, Highway 256 and International Border, Antler, ND.

Carbury POE, Highway 14 and International Border, Carbury, ND.

Maida POE, Highway 1 and International Border, Maida, ND.

Porthill POE, Highway 1 and International Border, Porthill, ID.

Coburn Gore POE, Route 27 and International Border, Coburn Gore, ME.

Eastport POE, Eastport, ME.

Lancaster POE, Highway 59 and International Border, Lancaster, MN.

Roseau POE, Roseau, MN, including Pine Creek crossing, Highway 89 and International Border.

Baudette POE, Highway 72 and International Border, Baudette, MN.

Roosville POE, Highway 93 N. and International Border, Roosville, MT.

Algonac POE (Ferry), MI.

Marine City POE (Ferry), MI.

Pittsburg POE, Highway 3 and International Border, Pittsburg, NH.

Cape Vincent POE (Ferry), NY.

Ogdensburg POE, Ogdensburg Bridge Plaza, Route 812 and International Border, Ogdensburg, NY.

Trout River POE, State Route 30 and International Border, Trout River, NY.

Chateaugay POE, Route 374 and International Border, Chateaugay, NY.

Mooers POE, Route 219 and International Border, Mooers, NY.

Rouses Point POE, Highway 11 and International Border, Rouses Point, NY.

Highgate Springs POE, Interstate 89 and International Border, Highgate Springs, VT.

West Berkshire POE, West Berkshire Road and International Border, West Berkshire, VT.

Richford/Pinnacle POE, Pinnacle Road and International Border, Richford, VT.

North Troy POE, Route 243 and International Border, North Troy, VT.

Derby Line POE, Interstate 91 and International Border, Derby Line, VT.

Norton POE, Route 114 and International Border, Norton, VT.

Sweetgrass POE, Interstate 15 N. and International Border, Sweetgrass, MT.

Scobey POE, Highway 13 North and International Border, Scobey, MT.

Neche POE, Highway 18 and International Border, Neche, ND.

Ferry POE, Ferry, WA.

Estimated start date of November 28, 2005:

Fort Kent POE, 98 West Maine St, Fort Kent, ME.

Madawaska POE, Bridge Street and International Border, Madawaska, ME.

Hamlin POE, Route 218 and International Border, Hamlin, ME.

Limestone POE, Route 229 East and International Border, Limestone, ME.

Fort Fairfield ME POE, Route 165 and International Border, Fort Fairfield, Maine.

Bridgewater, POE Boundary Road and International Border, Bridgewater, ME.

Houlton POE Interstate 95 and International Border, Houlton, ME.

Lubec POE Route 189 and International Border, Lubec, ME.

Fort Covington POE, Dundee Road and International Border, Fort Covington, NY.

Alburg POE, Route 225 and International Border, Alburg, VT.

Eastport POE, Highway 95 N. and International Border, Eastport, ID.

Ambrose POE, State Highway 42 and International Border, Ambrose, ND.

Westhope POE, Highway 83 and International Border, Westhope, ND.

Dunseith POE, Highway 281 and International Border, Dunseith, ND.

Oroville POE, Highway 97 and International Border, Oroville, WA.

Nighthawk POE, Loomis Oroville Highway and International Border, Nighthawk, WA.

Estimated start date of December 19, 2005:

Los Ebanos POE (Ferry), TX.

Naco, South Towner Avenue and International Border, Naco, AZ.

Antelope Wells, Route 81 and International Border, Antelope Wells, NM.

Warroad POE, State Highway 313 and International Border, Warroad, MN.

Ely POE, Ely, MN.

Grand Portage POE, Highway 61 and International Border, Grand Portage, MN.

Jackson Street Pier POE (Ferry), OH.

Beebe Plain POE, Beebe Plain, VT.

Canaan POE, Route 141 and International Border, Canaan, VT.

Beecher Falls POE, Route 253 and International Border, Beecher Falls, VT.

Alburg Springs POE, Alburg Springs Road and International Border, Alburg Springs, VT.

Morses Line POE, Route 235 and International Border, Morses Line, VT.

Richford POE, Route 139 and International Border, Richford, VT.

East Richford POE, Route 105A and International Border, East Richford, VT.

Vancouver, Canada (Amtrak Station).

Rochester POE (Ferry), NY.

Niagara Falls POE (Amtrak Station), NY.

Champlain POE (Amtrak Station), NY.

Overton Corners POE, Route 276 and International Border, Champlain, NY.

Jackman POE, Route 201 and International Border, Jackman, ME.

Van Buren POE, Bridge Street and International Border, Van Buren, ME.

Vanceboro POE Route 6 (Water Street) and International Border, Vanceboro, ME.

Heart Island (Ferry), NY.

Bar Harbor POE (Ferry), ME.

DHS has included these dates as estimates only. Should changes occur following the publication of this Notice, revised estimated dates can be found on the US-VISIT Web site at http://www.dhs.gov/us-visit. Further, DHS will communicate directly with local area news media and civic organizations about POEs impacted by any program changes through a US-VISIT outreach program.

All of these listed ports of entry, however, will begin US-VISIT implementation by December 31, 2005.

Dated: August 22, 2005.
Michael Chertoff,
Secretary of Homeland Security.

[FR Doc. 05-18220 Filed 9-13-05; 8:45 am]

BILLING CODE 4410-10-P